DEPARTMENT OF THE INTERIOR

Bureau of Land Management

[LLCAD0500, L51010000.LVRWB11B4500.FX0000]

Notice of Intent To Prepare an Environmental Impact Statement for the enXco Development Corporation's Tylerhorse Wind Project, Kern County, CA, and Possible Land Use Plan Amendment; CACA 51561

AGENCY: Bureau of Land Management, Interior.

ACTION: Notice of Intent.

SUMMARY: In compliance with the National Environmental Policy Act of 1969 (NEPA), as amended, and the Federal Land Policy and Management Act of 1976 (FLPMA), as amended, the Bureau of Land Management (BLM) Ridgecrest Field Office, Ridgecrest, California, intends to prepare an Environmental Impact Statement (EIS), which may include an amendment to the California Desert Conservation Area (CDCA) Plan (1980, as amended), related to Power Partners Southwest, LLC's (Applicant or Power Partners) right-of-way (ROW) authorization request for the Tylerhorse Wind Project (Project), a 60-megawatt (MW) wind farm. By this notice the BLM is announcing the beginning of the scoping process to identify issues and solicit public comments on the EIS and proposed plan amendment (PA). By this notice the BLM is also segregating, subject to valid existing rights, approximately 1,200 acres of public lands from appropriation under the public land laws, including the Mining Law of 1872, as amended, but not from leasing under the mineral leasing laws or disposal under the mineral material laws, for a period of 2 years from the date of publication of this notice for the purpose of processing Power Partner's ROW authorization request.

DATES: This notice initiates: (1) The public scoping process for the EIS and possible plan amendment, and (2) the 2 year segregation period for the public lands within the Project application area. Comments on issues related to the EIS and possible plan amendment may be submitted in writing until August 15, 2011. The date(s) and location(s) of any scoping meetings will be announced at least 15 days in advance through local media, newspapers, and the BLM Web site at: http://www.blm.gov/ca/st/en/fo/cdd.html. In order to be considered in the Draft PA/EIS, all comments must be received prior to the close of the scoping period or 15 days after the last public meeting, whichever is later. We will provide additional opportunities for public participation upon publication of the Draft EIS. The segregation of the public lands is effective as of July 15, 2011. The segregation will terminate when one of the following events occurs: (1) The BLM issues a decision granting, granting with modifications, or denying Power Partners' ROW authorization request; (2) publication of a Federal Register notice terminating this segregation; or (3) if no further administrative action occurs at the end of this segregation on July 15, 2013.

ADDRESSES: You may submit comments on issues and planning criteria related to the Tylerhorse Wind Project by any of the following methods:

• Web site: http://www.blm.gov/ca/st/en/fo/cdd.html.

• E-mail: catylerhorse@blm.gov.

• Fax: (951) 697-5299.

• Mail: ATTN: Cedric Perry, BLM California Desert District Office, 22835 Calle San Juan de Los Lagos, Moreno Valley, California 92553-9046.

Documents pertinent to this proposal may be examined at the California Desert District office at the address above.

FOR FURTHER INFORMATION CONTACT: For further information and/or to have your name added to our mailing list, contact Cedric Perry, telephone (951) 697-5388; address BLM California Desert District Office, 22835 Calle San Juan de Los Lagos, Moreno Valley, California 92553-9046; e-mail catylerhorse@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: EnXco, through its wholly owned subsidiary Power Partners, has submitted a ROW application requesting authorization to construct, operate, maintain, and decommission the Tylerhorse 60-MW wind farm facility. The proposed project is located on public lands in Kern County approximately 15 miles west of California State Highway 14, 12 miles south of California State Highway 58, and 8 miles north of State Route 138. The proposed project would include 34 wind turbines, access roads, and a 34.5 kV energy collection line on 1,100 acres of BLM-administered lands. Ancillary facilities would be located on the adjacent PdV/Manzana (PdV) project that was approved on private lands by the Kern County Board of Supervisors on July 29, 2008, and is currently under construction. Additional roads, transmission lines, and other facilities including substations, operations and maintenance facilities, batch plants, and temporary laydown yards would be provided by the PdV project.

The purpose of the public scoping process is to determine relevant issues that will influence the scope of the environmental analysis, including alternatives, and guide the process for developing the PA/EIS. At present, the BLM has identified the following preliminary issues: Air quality and greenhouse gas emissions; biological resources, including special status species, Golden Eagles and California Condors; cultural resources; geology and soils; hazards and hazardous materials; hydrology and water quality; land use, noise; recreation; traffic; wilderness characteristics; visual resources; and areas with high potential for renewable energy development.

Pursuant to the CDCA Plan, sites associated with power generation or transmission not identified in the CDCA Plan will be considered through the plan amendment process to determine the suitability of the sites for renewable energy development. Since the Project site was not previously identified as suitable, authorization of the Tylerhorse project would require an amendment to the CDCA Plan. By this notice, the BLM is complying with requirements in 43 CFR 1610.2(c) to notify the public of potential amendments to land use plans, predicated on the findings in the EIS. If a land use plan amendment is necessary, the BLM would integrate the land use planning process with the NEPA process for the Project. A preliminary list of potential planning criteria that will be used to help guide and define the scope of the plan amendment process include:

• The plan amendments will be completed in compliance with FLPMA, NEPA, and all other relevant Federal laws, executive orders, and BLM policies;

• Existing, valid plan decisions will not be changed and any new plan decisions will not conflict with existing plan decisions; and

• The plan amendments will recognize valid existing rights.

The BLM will also use and coordinate the NEPA commenting process to satisfy the public involvement process for Section 106 of the National Historic Preservation Act (16 U.S.C. 470(f) as provided for in 36 CFR 800.2(d)(3). Native American Tribal consultations will be conducted and tribal concerns will be given due consideration, including impacts on Indian trust assets. Federal, State, and local agencies, along with Tribes and other stakeholders that may be interested or affected by the BLM's decision on this project are invited to participate in the scoping process and, if eligible, may request or be requested by the BLM to participate as a cooperating agency. In connection with its processing of Power Partners' application, the BLM is also segregating, under the authority contained in 43 CFR 2091.3-1(e) and 43 CFR 2804.25(e), subject to valid existing rights, the public lands within the Tylerhorse application area from appropriation under the public land laws including the Mining Law of 1872, as amended, but not the Mineral Leasing or the Material Sales Acts, for a period of 2 years from the date of publication of this notice. The public lands contained within this segregation are described as follows:

San Bernardino Meridian

Township 10 North, Range 15 West,

Section 24;

Section 26, lots 1 to 8, inclusive; and

Section 28, lot 1 and SW¼; SE¼.

Containing 1,200.29 acres more or less, Kern County.

The BLM has determined that this segregation is necessary to ensure the orderly administration of the public lands by maintaining the status quo while it processes Power Partners' ROW application for the above described lands. The segregation period will terminate and the lands will automatically reopen to appropriation under the public land laws, including the Mining Law, if one of the following events occurs: (1) The BLM issues a decision granting, granting with modifications, or denying Power Partners' ROW application request; (2) publication of a Federal Register notice terminating this segregation; or (3) if no further administrative action occurs at the end of this segregation. Any segregation made under this authority is effective only for a period of up to 2 years.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7; 43 CFR 1610.2, 2091.3-1(e), and 2804.25(e).

James W. Keeler,
Acting Deputy State Director, California.

[FR Doc. 2011-17720 Filed 7-14-11; 8:45 am]

BILLING CODE 4310-40-P